DEPARTMENT OF COMMERCE

National Oceanic and Atmospheric Administration

Proposed Information Collection; Comment Request; National Centers for Environmental Information Send2NCEI Web Application

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 5, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Donald W. Collins, (301) 713-4853 or Donald.Collins@noaa.gov.

SUPPLEMENTARY INFORMATION:

I. Abstract

This request is for extension of a currently approved information collection.

When creating a Request to Archive oceanographic data or information at the United States (U.S.) National Centers for Environmental Information (NCEI), well-organized and complete metadata describing those data are needed for long term understanding and use of those data. The Send2NCEI web application provides a web-based form for easily collecting required and optional descriptive metadata to describe oceanographic data in a way that supports Executive Order 12906 and structures those metadata to conform to the internationally used ISO 19115 Geospatial Metadata suite of standards. Descriptive metadata informs the suitability of data for use by future data users and should provide critical context about how data were collected, what techniques and measurements were made, and data quality characterizations. Information about the data provider or other individuals is only used by NCEI to contact the data provider with questions about submitted data, about the status of the data in the archival process, and to provide appropriate scientific recognition and attribution for submitted data. Send2NCEI will be used by earth, ocean, and atmospheric scientists and their data managers.

II. Method of Collection

Web-based application.

III. Data

OMB Control Number: 0648-0024.

Form Number(s): NOAA 24-13.

Type of Review: Regular submission (request for extension of a currently approved information collection).

Affected Public: Not for profit institutions; state, local or tribal governments; business or other for-profit organizations.

Estimated Number of Respondents: 300.

Estimated Time per Response: 1 hour.

Estimated Total Annual Burden Hours: 300.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 28, 2017.
Sarah Brabson,
NOAA PRA Clearance Officer.

[FR Doc. 2017-28420 Filed 1-2-18; 8:45 am]

BILLING CODE 3510-HR-P